DEPARTMENT OF TRANSPORTATION

Federal Aviation Administration

14 CFR Part 39

[Docket No. 2001-NM-54-AD]

RIN 2120-AA64

Airworthiness Directives; McDonnell Douglas Model MD-11 and -11 Airplanes

AGENCY: Federal Aviation Administration, DOT.

ACTION: Supplemental notice of proposed rulemaking; reopening of comment period.

SUMMARY: This document revises an earlier proposed airworthiness directive (AD), applicable to certain McDonnell Douglas Model MD-11 airplanes, that would have required an inspection of the connector cables for signs of arcing and/or signs of moisture penetration into the overhead decoder units (ODU), and replacement of the affected ODU(s) with a new ODU, if necessary. The proposed AD also would have required modification and reidentification of the cable assemblies and the connect cable assemblies at shipside power to the ODU, ODU to ODU, and adjacent bag racks. This new action revises the proposed rule by adding and removing airplanes in the applicability of the proposed rule and replacing certain connectors of the ODU and shipside power cable assemblies. The actions specified by this new proposed AD are intended to prevent moisture from entering through the rear of the connector of the ODUs located in the overhead baggage stowage racks, which could result in a short, damage to the connector pins, and consequent smoke and/or fire in the cabin. This action is intended to address the identified unsafe condition.

DATES: Comments must be received by August 9, 2004.

ADDRESSES: Submit comments in triplicate to the Federal Aviation Administration (FAA), Transport Airplane Directorate, ANM-114, Attention: Rules Docket No. 2001-NM-54-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-54-AD” in the subject line and need not be submitted in triplicate. Comments sent via the Internet as attached electronic files must be formatted in Microsoft Word 97 or 2000 or ASCII text.

The service information referenced in the proposed rule may be obtained from Boeing Commercial Airplanes, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Brett Portwood, Aerospace Engineer, Systems and Equipment Branch, ANM-130L, FAA, Los Angeles Aircraft Certification Office, 3960 Paramount Boulevard, Lakewood, California 90712-4137; telephone (562) 627-5350; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-54-AD.” The postcard will be date stamped and returned to the commenter.

Availability of NPRMs

Any person may obtain a copy of this NPRM by submitting a request to the FAA, Transport Airplane Directorate, ANM-114, Attention: Rules Docket No. 2001-NM-54-AD, 1601 Lind Avenue, SW., Renton, Washington 98055-4056.

Discussion

A proposal to amend part 39 of the Federal Aviation Regulations (14 CFR part 39) to add an airworthiness directive (AD), applicable to certain McDonnell Douglas Model MD-11 airplanes, was published as a notice of proposed rulemaking (NPRM) in the Federal Register on October 5, 2001 (66 FR 50901) (hereafter referred to as the “original NPRM”). The original NPRM would have required an inspection of the connector cables for signs of arcing and/or signs of moisture penetration into the overhead decoder units (ODU), and replacement of the affected ODU(s) with a new ODU, if necessary. The original NPRM also would have required modification and reidentification of the cable assemblies and the connect cable assemblies at shipside power to the ODU, ODU to ODU, and adjacent bag racks. The original NPRM was prompted by several incidents of smoke in the cabin. Moisture entering through the rear of the connector of the ODUs located in the overhead baggage stowage racks, if not corrected, could result in a short, damage to the connector pins, and consequent smoke and/or fire in the cabin.

Comment Received: Request To Revise Cost Impact Section

Due consideration has been given to the comment received in response to the original NPRM:

One commenter requests that we revise the Cost Impact section of the original NPRM. The commenter notes that the original NPRM states, “The manufacturer has committed previously to its customers that it will bear the cost of replacement parts.” The commenter states that Boeing warranty remedies are available for Model MD-11 and -11F airplanes under warranty as of October 1, 1999, and that the kits for airplanes in warranty as of that date will be supplied at no charge.

The FAA concurs. We have revised the cost impact by including the cost of the replaced parts and adding the following statement: “The manufacturer may cover the cost of replacement parts associated with this proposed AD, subject to warranty conditions. As a result, the costs attributable to the proposed AD may be less than stated above.”

Actions Since Issuance of the Original NPRM

Since the issuance of the original NPRM, Boeing issued Revision 01 of Boeing Alert Service Bulletin MD11-33A065, dated December 21, 2001 (the original issue was referenced in the original NPRM as the appropriate source of service information for the proposed actions). Revision 01 corrected several part numbers and revised the effectivity listing by removing certain fuselage numbers and Group 34 airplanes and adding six convertible freighters.

Explanation of Relevant Service Information

Since the issuance of Revision 01 of the service bulletin, we have reviewed and approved Revision 02 of Boeing Alert Service Bulletin MD11-33A065, dated April 1, 2003. For all airplanes, Revision 02 continues to describes procedures for a general visual inspection of the cable connectors for signs of arcing or signs of moisture penetration into the ODUs, and replacement of the affected ODU with a new ODU, if necessary.

For certain airplanes, Revision 02 describes new procedures for:

• A general visual inspection of the P1 connector end of all AWP9604 cable assemblies of the ODUs to determine if SK2464-15 connectors are present; and replacement of SK2464-15 connectors with new connectors;

• Replacement of the connector ends on the applicable cable assemblies of the ODUs with new connector ends;

• A general visual inspection of the P1 connector end of the jumper cables of the centerline AWP9606 shipside cable assemblies to determine if SK2464-9 connectors are present; and replacement of SK2464-9 connectors with new connectors;

• Replacement of the P1 connector ends on the applicable shipside cable assemblies with new connector ends; and

• Replacement of the connectors of the applicable shipside cable assemblies with new connectors.

For certain other airplanes, Revision 02 describes new procedures for replacement of the connectors of the applicable cable assemblies of the ODUs with new connectors. In addition, Revision 02 removes 19 passenger airplanes that have been converted to freighter configuration.

Changes to Proposed Requirements

Accomplishment of the actions described above in Revision 02 of the service bulletin is intended to adequately address the identified unsafe condition. Therefore, we have revised this supplemental NPRM to reference Revision 02 as the appropriate source of service information, except as discussed below.

Although the service bulletin describes procedure for a general visual inspection of the connector cables of the shipside cable assemblies for signs of arcing or signs of moisture penetration for certain airplanes, this proposed AD does not require that inspection. We have consulted with the airplane manufacturer and have determined that this inspection is unnecessary because this proposed AD would require replacement of the connectors and connector ends of the applicable shipside cable assemblies with new parts.

In addition, although the Accomplishment Instructions of the referenced service bulletin describe procedures for submitting a comment sheet related to service bulletin quality and a sheet recording compliance with the service bulletin, this proposed AD would not require those actions. We do not need this information from operators.

Conclusion

Since these changes expand the scope of the originally proposed rule, we have determined that it is necessary to reopen the comment period to provide additional opportunity for public comment.

Changes to 14 CFR Part 39/Effect on the Proposed AD

On July 10, 2002, the FAA issued a new version of 14 CFR part 39 (67 FR 47997, July 22, 2002), which governs the FAA's airworthiness directives system. The regulation now includes material that relates to altered products, special flight permits, and alternative methods of compliance (AMOCs). These changes are reflected in this supplemental NPRM.

Changes to Labor Rate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

There are approximately 114 airplanes of the affected design in the worldwide fleet. The FAA estimates that 28 airplanes of U.S. registry would be affected by this proposed AD, that it would take approximately between 295 and 2,056 work hours per airplane (i.e., 2 work hours per ODU and shipside connector; the number of ODUs and shipside connectors per airplane will vary between 59 and 1,028 depending on the airplane's configuration) to accomplish the proposed actions, and that the average labor rate is $65 per work hour. Required parts would cost approximately between $2,264 and $130,864 per airplane (depending on the airplane configuration). Based on these figures, the cost impact of the proposed AD on U.S. operators is estimated to be between $21,439 and $264,504 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this proposed AD, subject to warranty conditions. As a result, the costs attributable to the proposed AD may be less than stated above.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

McDonnell Douglas: Docket 2001-NM-54-AD.

Applicability: Model MD-11 and -11F airplanes, as listed in Boeing Alert Service Bulletin MD11-33A065, Revision 02, dated April 1, 2003; certificated in any category.

Compliance: Required as indicated, unless accomplished previously.

To prevent moisture from entering through the rear of the connector of the overhead decoder units (ODU) located in the overhead baggage stowage racks, which could result in a short, damage to the connector pins, and consequent smoke and/or fire in the cabin, accomplish the following:

Service Bulletin References

(a) The term “the service bulletin,” as used in this AD, means Boeing Alert Service Bulletin MD11-33A065, Revision 02, dated April 1, 2003.

Part 1: Cable Assemblies of the ODU

(b) Within 18 months after the effective date of this AD, do the actions specified in paragraphs (b)(1) through (b)(4) of Table 1 of this AD, as applicable, and any applicable corrective actions by doing all actions in Part 1 of the Work Instructions of the service bulletin. Do the actions per the service bulletin. Do any applicable corrective actions before further flight.

Table 1.—Cable Assemblies of the ODUs
For airplanes identified in the service bulletin as— | Actions—
(1) For Groups 1 through 69 | Do a general visual inspection of the P1 connector end of all AWP9604 cable assemblies of the ODUs to determine if SK2464-15 connectors are present.
(2) For Groups 1 through 69 | Replace the connector ends on the applicable cable assemblies of the ODUs with new connector ends.
(3) Groups 1 through 72 | Do general visual inspection of the cable connectors for signs of arcing or signs of moisture penetration into the ODUs.
(4) Groups 70 through 72 | Replace the connectors of the applicable cable assemblies of the ODUs with new connectors.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Part 2: Shipside Cable Assemblies

(c) For Groups 1 through 69 identified in the service bulletin: Within 18 months after the effective date of this AD, do the actions specified in paragraphs (c)(1) through (c)(3) of this AD, and any applicable corrective action by doing all actions in paragraphs 1., and 3. through 10., as applicable, of Part 2 of the Work Instructions of the service bulletin. Do the actions per the service bulletin. Do any applicable corrective actions before further flight.

(1) Do a general visual inspection of the P1 connector end of the jumper cables of the centerline AWP9606 shipside cable assemblies to determine if SK2464-9 connectors are present.

(2) Replace the P1 connector ends on the applicable shipside cable assemblies with new connector ends.

(3) Replace the connectors of the applicable shipside cable assemblies with new connectors.

Differences Between AD and Referenced Service Bulletin

(d) Although the service bulletin referenced in this AD specifies to submit certain information to the manufacturer, this AD does not include that requirement.

(e) Although the service bulletin describes procedure for a general visual inspection of the connector cables of the shipside cable assemblies for signs of arcing or signs of moisture penetration for certain airplanes, this AD does not require that inspection.

Note 2: Where there are differences between the AD and the service bulletin, the AD prevails.

Parts Installation

(f) As of the effective date of this AD, no person shall install a cable assembly having a part number in the “Existing Part Number” column of the applicable table specified in paragraph 2.C.3, “Parts Necessary for Each Airplanes” of the service bulletin, on any airplane.

Alternative Methods of Compliance

(g) In accordance with 14 CFR 39.19, the Manager, Los Angeles Aircraft Certification Office, FAA, is authorized to approve alternative methods of compliance (AMOCs) for this AD.

Issued in Renton, Washington, on June 30, 2004.
Kalene C. Yanamura,
Acting Manager, Transport Airplane Directorate, Aircraft Certification Service.

[FR Doc. 04-15761 Filed 7-12-04; 8:45 am]

BILLING CODE 4910-13-P